NATIONAL AERONAUTICS AND SPACE ADMINISTRATION

[Notice: (05-121)]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Room 10236; New Executive Office Building; Washington, DC 20503.

FOR FURTHER INFORMATION CONTACT: Requests for additional information or copies of the information collection instrument(s) and instructions should be directed to Ms. Kathy Shaeffer, Acting NASA Reports Officer, NASA Headquarters, 300 E Street SW., Mail Suite 6M70, Washington, DC 20546, (202) 358-1230, kathleen.shaeffer-1@nasa.gov.

SUPPLEMENTARY INFORMATION:

I. Abstract

NASA Johnson Space Center is licensed to collect and maintain records of radioactive material used for space-related research and space vehicles at temporary job sites in the U.S. Information collected includes descriptions, transfer, location, and disposition of materials and records of accountability and responsibility. Respondents are NASA field centers and NASA contractors, subcontractors, and vendors.

II. Method of Collection

NASA collects this information electronically where feasible, but information may also be collected by mail or fax.

III. Data

Title: Radioactive Material Transfer Receipt.

OMB Number: 2700-0007.

Type of Review: Extension of a currently approved collection.

Affected Public: Business or other for-profit; Federal Government; State, local or tribal government.

Estimated Number of Respondents: 25.

Estimated Time Per Response: Approximately 30 minutes.

Estimated Total Annual Burden Hours: 10.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: July 19, 2005.
Patricia L. Dunnington,
Chief Information Officer.

[FR Doc. 05-14688 Filed 7-25-05; 8:45 am]

BILLING CODE 7510-13-P